DEPARTMENT OF COMMERCE

Bureau of Export Administration

15 CFR Parts 734, 738, 740, 742, 743, 748, and 774

[Docket No. 020228044-2052-02]

RIN 0694-AC42

Correction to Rule Entitled: Implementation of the Wassenaar Arrangement List of Dual-Use Items Revisions: Computers; and Revisions to License Exception CTP

AGENCY: Bureau of Export Administration, Commerce.

ACTION: Final rule.

SUMMARY: On March 8, 2002 the Bureau of Export Administration (BXA) published a final rule revising the Commerce Control List to implement certain agreed changes in Category 4 (Computers) of the Wassenaar List of Dual-Use Goods and Technologies, specifically in the area of computers. This rule corrects an error in the rulemaking requirements section to indicate that this rule was determined by the Office of Management and Budget to be significant for purposes of Executive Order 12866.

DATES: This rule is effective March 18, 2002.

FOR FURTHER INFORMATION CONTACT: Sharron Cook in the Office of Exporter Services, Bureau of Export Administration, at (202) 482-2440.

SUPPLEMENTARY INFORMATION: In rule FR Doc. 02-5563 published on March 8, 2002, (67 FR 10611), BXA makes the following correction. On page 10613, in the first column, under Rulemaking Requirements #1, revise the phrase “not significant” to read “significant.”

Dated: March 12, 2002.
Eileen M. Albanese,
Director, Office of Exporter Services, Export Administration.

[FR Doc. 02-6296 Filed 3-15-02; 8:45 am]

BILLING CODE 3510-33-P